DEPARTMENT OF ENERGY

Federal Energy Regulatory Commission

Combined Notice of Filings #1

Take notice that the Commission received the following electric rate filings:

Docket Numbers: ER12-1204-004.

Applicants: PJM Interconnection, L.L.C.

Description: PJM Interconnection, L.L.C. submits Compliance Filing per 11/16/2012 Order in “ER12-1204” & ER12-2391 eff. 10/1/2012 to be effective 10/1/2012.

Filed Date: 1/15/13.

Accession Number: 20130115-5119.

Comments Due: 5 p.m. ET 2/5/13.

Docket Numbers: ER12-2391-003.

Applicants: PJM Interconnection, L.L.C.

Description: PJM Interconnection, L.L.C. submits Compliance Filing per 11/16/2012 Order in ER12-1204 & “ER12-2391” eff 12/1/2012 to be effective 12/1/2012.

Filed Date: 1/15/13.

Accession Number: 20130115-5120.

Comments Due: 5 p.m. ET 2/5/13.

Docket Numbers: ER13-290-000.

Applicants: Michigan Power Limited Partnership.

Description: Michigan Power Limited Partnership submits Supplement to 11/01/2012 Revision to Market-Based Rate Tariff.

Filed Date: 12/13/12.

Accession Number: 20121213-5135.

Comments Due: 5 p.m. ET 1/25/13.

Docket Numbers: ER13-765-000.

Applicants: New Mexico Green Initiatives, LLC.

Description: New Mexico Green Initiatives, LLC submits tariff filing per 35.15: Tariff Cancellation to be effective 1/16/2013.

Filed Date: 1/16/13.

Accession Number: 20130116-5000.

Comments Due: 5 p.m. ET 2/6/13.

Docket Numbers: ER13-766-000.

Applicants: Smoky Mountain Transmission LLC.

Description: Smoky Mountain Transmission LLC submits tariff filing per 35.13(a)(2)(iii: Tariff filing to be effective 1-16-2013 to be effective 1/16/2013.

Filed Date: 1/16/13.

Accession Number: 20130116-5098.

Comments Due: 5 p.m. ET 2/6/13.

Docket Numbers: ER13-767-000.

Applicants: Badger Windpower, LLC.

Description: Badger Windpower, LLC submits tariff filing per 35.15: Badger Windpower Tariff Cancellation to be effective 12/21/2012.

Filed Date: 1/16/13.

Accession Number: 20130116-5102.

Comments Due: 5 p.m. ET 2/6/13.

Take notice that the Commission received the following qualifying facility filings:

Docket Numbers: QF12-174-000.

Applicants: Winona County Wind, LLC.

Description: Refund Report of Winona County Wind, LLC.

Filed Date: 01/15/2013.

Accession Number: 20130115-5123.

Comment Date: 5 p.m. ET 2/5/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 16, 2013.
Nathaniel J. Davis, Sr.,
Deputy Secretary.

[FR Doc. 2013-01509 Filed 1-24-13; 8:45 am]

BILLING CODE 6717-01-P